GENERAL SERVICES ADMINISTRATION

Federal Supply Service; Move Management Services (MMS) and the General Services Administration's (GSA's) Centralized Household Goods Traffic Management Program (CHAMP)

AGENCY: Federal Supply Service, GSA.

ACTION: Notice of changes to the MMS Statement of work (SOW).

SUMMARY: This notice announces changes GSA has made to the MMS SOW as a result of: (1) Comments solicited and received on our April 2, 1999 Federal Register notice (64 FR 15976); (2) subsequent meetings with the licensed-broker, carrier, and forwarder industries and GSA customer agencies; and (3) comments solicited and received on GSA's December 13, 1999, posting on the Electronic Posting Service (EPS) of a revised draft MMS SOW. The SOW provides for the transition of licensed-broker-provided MMS from GSA's CHAMP to the Governmentwide Employee Relocation Services Schedule as a separate line item. The transition is necessary to comply with statutory authority (49 U.S.C. 13712). Comments received on the April 2, 1999, Federal Register notice; deliberations with the licensed-broker, carrier, and forwarder industries and our customers; and comments received on the December 13, 1999, EPS posting of the revised SOW were all carefully considered and resulted in the changes announced in this notice.

FOR FURTHER INFORMATION CONTACT: Larry Tucker, Senior Program Analyst, Transportation Management Division, FSS/GSA, 703-305-5745.

SUPPLEMENTARY INFORMATION: GSA published a notice in the Federal Register on April 2, 1999 (64 FR 15976-15978) soliciting comments on the SOW to be used in transitioning licensed-broker-provided MMS from CHAMP to the Governmentwide Employee Relocation Services Schedule as a separate line item. GSA carefully reviewed the comments received and met with our customers and household goods industry representatives to determine how best to accommodate, within the context of the recommended changes, the affected parties. First and foremost our customer agencies want flexibility and choice. Based on the outcome of our deliberations we revised the SOW and posted it for comment on the EPS on December 13, 1999. We are instituting the following changes to satisfy the expressed wishes of our customers and to accommodate industry to the maximum extent possible.

• Carriers/forwarders will continue to provide MMS under CHAMP's Household Goods Tender of Service (HTOS).

• We will solicit two rate levels under the HTOS:

—One for general transportation; and

—One for MMS included in the rate.

• MMS contractor commissions assessed to carriers will be prohibited under the HTOS.

• We will transition licensed brokers to the Governmentwide Employee Relocation Services Schedule.

• Agencies may specify on a shipment-by-shipment basis, or on an up-front overall shipment basis, whether they want the schedule MMS contractor to use a CHAMP carrier and rate or whether they will accept the contractor's commercial arrangement(s) with a carrier(s).

• When a CHAMP carrier and rate are used, pricing will be on a flat fee basis with commissions prohibited.

• When an agency specifies use of a contractor's commercial arrangement(s), it will not be restricted to using a CHAMP carrier and rate and may instead use the contractor's supplier network and pricing options.

• Commissions will not be prohibited when an agency specifies use of a contractor's commercial arrangement(s).

• (GSA will have a 2-tiered industrial funding fee (IFF):

• If an agency selects use of a CHAMP carrier and rate, both a $145 IFF (embedded in the CHAMP carrier's rate under the Household Goods Tender of Service) and a 1% IFF (embedded in MMS pricing under the schedule) will apply; or

• If an agency uses the contractor's commercial arrangement, a 1% IFF (embedded in MMS pricing under the schedule) will apply. GSA plans to issue the refreshed solicitation for the relocation services multiple award schedule (MAS) within this first calendar year quarter. Since this is an MAS, each offer will be evaluated on its own merits. Contractors already on schedule will have the option of continuing to do business under their current award as is or to submit an offer on the new special item number (SIN).

The comments GSA received on the April 2, 1999, Federal Register notice and on the December 13, 1999, EPS posting of the revised SOW will be reconciled in a forthcoming EPS posting. The EPS may be accessed on the Internet at http://www.eps.gov. Click on “EPS for Vendors” and “Posted Dates” for GSA.

Dated: February 15, 2000.
Allan Zaic,
Assistant Commissioner, Office of Transportation and Property Management.

[FR Doc. 00-3914 Filed 2-16-00; 8:45 am]

BILLING CODE 6820-24-P